DEPARTMENT OF ENERGY

Federal Energy Regulatory Commission

Notice of Staff Attendance at Southwest Power Pool Oversight Committee, Special Meeting of Members and Board of Directors Meetings

The Federal Energy Regulatory Commission (Commission) hereby gives notice that members of its staff may attend the Southwest Power Pool, Inc. (SPP) meetings above. Their attendance is part of the Commission's ongoing outreach efforts.

All meetings will be held at SPP's Corporate Center, 201 Worthen Drive, Little Rock, AR. SPP's phone number is (501) 614-3200.

SPP Oversight Committee

June 9, 2014 (8:00 a.m.-12:00 p.m.)

SPP Special Meetings of Members and Board

June 9, 2014 (3:00 p.m.-5:00 p.m.)

June 10, 2014 (8:30 a.m.-5:00pm)

The discussions may address matters at issue in the following proceedings:

Docket No. ER05-168, Southwestern Public Service Company

Docket No. EL05-19, Southwestern Public Service Company

Docket No. ER06-274, Southwestern Public Service Company

Docket No. ER06-451, Southwest Power Pool, Inc.

Docket No. ER09-35, Tallgrass Transmission, LLC

Docket No. ER09-36, Prairie Wind Transmission, LLC

Docket No. ER09-548, ITC Great Plains, LLC

Docket No. ER11-4105, Southwest Power Pool, Inc.

Docket No. EL11-34, Midwest Independent Transmission System Operator, Inc.

Docket No. EL12-59, Golden Spread Electric Cooperative, Inc.

Docket No. EL12-60, Southwest Power Pool, Inc., et al.

Docket No. EL12-78, Southwest Power Pool, Inc.

Docket No. ER12-480, Midwest Independent Transmission System Operator, Inc.

Docket No. ER12-959, Southwest Power Pool, Inc.

Docket No. ER12-1071, Entergy Arkansas, Inc.

Docket No. ER12-1179, Southwest Power Pool, Inc.

Docket No. ER12-1586, Southwest Power Pool, Inc.

Docket No. ER12-2366, Southwest Power Pool, Inc.

Docket No. ER13-366, Southwest Power Pool, Inc.

Docket No. ER13-367, Southwest Power Pool, Inc.

Docket No. ER13-1173, Southwest Power Pool, Inc.

Docket No. ER13-1748, Southwest Power Pool, Inc.

Docket No. ER13-1864, Southwest Power Pool, Inc.

Docket No. ER13-1937, Southwest Power Pool, Inc.

Docket No. ER13-1939, Southwest Power Pool, Inc.

Docket No. EL14-21, Southwest Power Pool, Inc.

Docket No. EL14-30, Midcontinent Independent System Operator, Inc.

Docket No. EL14-57, City of Hastings and City of Grand Island

Docket No. ER14-781, Southwest Power Pool, Inc.

Docket No. ER14-1174, Southwest Power Pool, Inc.

Docket No. ER14-1406, Midcontinent Independent System Operator, Inc.

Docket No. ER14-1407, Southwest Power Pool, Inc.

Docket No. ER14-1628, Southwest Power Pool, Inc.

Docket No. ER14-1713, Midcontinent Independent System Operator, Inc.

Docket No. ER14-1743, Southwest Power Pool, Inc.

Docket No. ER14-1744, Southwest Power Pool, Inc.

Docket No. ER14-1779, Southwest Power Pool, Inc.

Docket No. ER14-1784, Southwest Power Pool, Inc.

Docket No. ER14-1796, Southwest Power Pool, Inc.

Docket No. ER14-1798, Southwest Power Pool, Inc.

Docket No. ER14-1900, Southwest Power Pool, Inc.

Docket No. ER14-1901, Southwest Power Pool, Inc.

Docket No. ER14-1965, Southwest Power Pool, Inc.

Docket No. ER14-1967, Southwest Power Pool, Inc.

Docket No. ER14-1968, Southwest Power Pool, Inc.

Docket No. ER14-1975, Southwest Power Pool, Inc.

Docket No. ER14-1993, Southwest Power Pool, Inc.

Docket No. ER14-2008, Southwest Power Pool, Inc.

Docket No. ER14-2009, Southwest Power Pool, Inc.

Docket No. ER14-2022, Midcontinent Independent System Operator, Inc.

Docket No. ER14-2059, Midcontinent Independent System Operator, Inc.

Docket No. ER14-2062, Southwest Power Pool, Inc.

These meetings are open to the public.

For more information, contact Patrick Clarey, Office of Energy Market Regulation, Federal Energy Regulatory Commission at (317) 249-5937 or patrick.clarey@ferc.gov.

Dated: June 4, 2014.
Kimberly D. Bose,
Secretary.

[FR Doc. 2014-13486 Filed 6-9-14; 8:45 am]

BILLING CODE 6717-01-P